NORTHEAST DAIRY COMPACT COMMISSION

Notice of Out-of-Business New England Dairy Producer Escrow Reimbursement Program

AGENCY: Northeast Dairy Compact Commission.

ACTION: Solicitation of application claims from eligible out-of-business New England dairy producers for reimbursement of escrowed funds.

SUMMARY: The Northeast Dairy Compact Commission announces an Escrow Reimbursement Program for those New England dairy producers who were in business but ceased operations during the pendency of the New York Dairy Foods, Inc. litigation from July 1, 1997 through March 31, 2000. Part of the Compact Over-order Producer payment was placed in escrow monthly during the litigation and those funds have since been released by the Federal District Court for distribution to New England dairy producers.

Producers whose milk was marketed in New England either through pool plants or partially regulated plants may be eligible for payment. Those producers who had been in business during any part of the period of the litigation but had ceased operation before March 31, 2000 qualify for reimbursement if their verified claims exceed $50.00. Producers who were still in business on March 31, 2000 were reimbursed those funds in the September Compact payment and do not qualify.

The Compact Commission has determined that eligible producers who went out of business will be reimbursed on the basis of pounds of milk shipped during the period July 1, 1997 through March 31, 2000. Qualified producers must file notarized Application Claim Forms with the Commission documenting the handler and the pounds of milk shipped by month. The Forms must be filed for verification between December 1, 2000 and February 28, 2001. Payments to qualified producers for claims above $50.00 will be made in January, February or March, 2000.

DATES: Application Claim Forms will be available after December 1, 2000 and must be filed by February 28, 2001.

ADDRESSES: Application Claim Forms are available from and must be filed with the Out-of-Business Escrow Reimbursement Program, Northeast Dairy Compact Commission, 34 Barre Street, Suite 2, Montpelier, VT 05602.

FOR FURTHER INFORMATION CONTACT: Daniel Smith, Executive Director, Northeast Dairy Compact Commission, 34 Barre Street, Suite 2, Montpelier, VT 05602. Telephone (802) 229-1941, Fax (802) 229-2028, E-mail smae@dairycompact.

Authority: 7 U.S.C. 7256.

Dated: November 17, 2000.
Daniel Smith,
Executive Director.

[FR Doc. 00-31792 Filed 12-13-00; 8:45 am]

BILLING CODE 4650-01-P